DEPARTMENT OF AGRICULTURE

Food and Nutrition Service

Agency Information Collection Activities: Proposed Collection; Comment Request—Supplemental Nutrition Assistance Program Forms: Applications, Periodic Reporting and Notices

AGENCY: Food and Nutrition Service, USDA.

ACTION: Notice.

SUMMARY: In accordance with the Paperwork Reduction Act (PRA) of 1995, this Notice invites the general public and other public agencies to comment on proposed information collections. This collection is a revision of currently approved burden for the applications, periodic reporting, and notices burden calculations for the Supplemental Nutrition Assistance Program (SNAP). The revision also modifies the net estimates for PRA burden associated with proposed rule “Supplemental Nutrition Assistance Program (SNAP): Eligibility, Certification, and Employment and Training Provisions” published on May 4, 2011 at 76 FR 25413.

DATES: Written comments must be submitted on or before July 14, 2015 to be assured consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

Send comments to Sasha Gersten-Paal, Chief, Certification Policy Branch, Program Development Division, Food and Nutrition Service, U.S. Department of Agriculture, 3101 Park Center Drive, Room 812, Alexandria, VA 22302. Comments may also be submitted via fax to the attention of Sasha Gersten-Paal at 703-305-2486. Comments will also be accepted through the Federal eRulemaking Portal. Go to http://www.regulations.gov and follow the online instructions for submitting comments electronically.

All written comments will be open for public inspection during regular business hours (8:30 a.m. to 5 p.m., Monday through Friday) at the office of the Food and Nutrition Service, U.S. Department of Agriculture, 3101 Park Center Drive, Alexandria, Virginia 22302, Room 800.

All comments will be summarized and included in the request for Office of Management and Budget approval of the information collection. All comments will become a matter of public record.

FOR FURTHER INFORMATION CONTACT: Requests for additional information should be directed to Sasha Gersten-Paal at 703-305-2507.

SUPPLEMENTARY INFORMATION: Title: Supplemental Nutrition Assistance Program Forms: Applications, Periodic Reporting and Notices.

OMB Number: 0584-0064.

Form Number: None.

Expiration Date: April 30, 2016.

Type of Request: Revision of an existing collection.

Abstract: This notice revises the Applications, Periodic Reporting, and Notices burden for the Supplemental Nutrition Assistance Program (SNAP). The Federal procedures for implementing the application and certification procedures in the Act are in Parts 271, 272, and 273 of the Title 7 of the Code of Federal Register. Part 271 contains general information and definitions, Part 272 contains requirements for participating State agencies, and Part 273 contains procedures for the certification of eligible households.

After careful review and consideration of the burden inventory under OMB No. 0584-0064, FNS has determined the burden baseline does not accurately reflect the burden activities or hours required by the SNAP under this collection. We have corrected the burden inventory baseline to establish burden estimates under OMB No. 0584-0064 that more accurately reflect the information collection burdens of SNAP's existing application and recertification process. An overview is provided in this notice and additional details are available in the docket at [Placeholder].

Section 3502.2 of the PRA defines burden as “time, effort, or financial resources expended by a person to generate, maintain, or provide information to or for a Federal agency.”

In keeping with the PRA definition of burden, we created sub-activity categories that allowed for the inclusion of time and effort expended on behalf of households and State agencies and revised the time estimates. Note that no changes have been made to the existing reporting and recordkeeping requirements. The change in burden is due to formulating more accurate burden estimates associated with the existing requirements.

The following tables compare the time estimates for activities contained in the currently approved information collection with the revised burden baseline activities.

Time estimates established in the currently approved OMB No. 0584-0064: State agency: Information collection activities | Time estimates established in the currently approved OMB No. 0584-0064: State agency: Time estimate (minutes) | Activities and time estimates for revising burden baseline for OMB No. 0584-0064: State agency: Information collection activities | Activities and time estimates for revising burden baseline for OMB No. 0584-0064: State agency: Time estimate (minutes)
Initial Application | 19 | Initial Application: | 19
|  | Interview | 30
|  | Verification | 24
Recertification Application | 19 | Recertification Application: | 15
|  | Interview | 20
|  | Verification | 10
Reports: |  | Periodic Reports: |
Monthly Reports | 11 | Monthly Reports | 7
Quarterly Reports | 12 | Quarterly Reports | 8
Simplified Reports | 11 | Simplified Reports | 11
Change Reports | 11 | Change Report | 11
Notices: |  | Notices:
Notice of Eligibility or Denial | 2 | Notice of Eligibility or Denial | 2
Notice of Missing or Incomplete Report | 2 | Notice of Missing or Incomplete Report | 2
Notice of Missed Interview | 1 | Notice of Missed Interviews | 1
Notice of Expiration | 2 | Notice of Expiration | 2
Notice of Adverse Action | 2 | Notice of Adverse Action | 2
Adequate Notice for Monthly Reports | 2 | Adequate Notice | 2
Request for Contact | 2 | Request for Contact | 2
Transition Notice | 0 | Transitional notice | 0

Time estimates established in the currently approved OMB No. 0584-0064: Households: Information collection activities | Time estimates established in the currently approved OMB No. 0584-0064: Households: Time estimate (minutes) | Activities and time estimates for revising burden baseline for OMB No. 0584-0064: Households: Information collection activities | Activities and time estimates for revising burden baseline for OMB No. 0584-0064: Households: Time estimate (minutes)
Initial Application | 19 | Initial SNAP Application: | 19
|  | Interview | 30
|  | Travel time—In office interview | 120
|  | Verification | 24
Recertification Application | 19 | SNAP Recertification Application: | 15
|  | Interview | 20
|  | Travel time—In office interview | 120
|  | Verification | 10
Reports: |  | Periodic Reports:
Monthly Reports | 7 | Monthly Reports | 7
Quarterly Reports | 8 | Quarterly Reports | 8
Simplified Reports | 8 | Simplified or Periodic Reports | 10
Change Report | 5 | Change Reports | 10
Notices: |  | Notices:
Notice of Missed Interview | 1 | Notice of Missed Interviews | 1
Notice of Adverse Action | 1 | Notice of Adverse Action | 1
Adequate Notice | 1 | Adequate Notice | 1
Request for Contact | 2 | Request for Contact | 2

Additionally, the burden estimates included in this collection account for the burden applicable to each SNAP applicant. The estimated number of applicants has increased from the prior estimate of approximately 11 million applicants to over 14.5 million applicants in Fiscal Year 2014.

The net impact to the burden is summarized below.

Summary of Estimated Burden

Affected Public: State and local government agencies administering SNAP and Individuals/Households.

Estimated Number of Respondents: 14,619,642.

Estimated Number of Responses per Respondent: 45.04.

Estimated Total Number of Annual Responses: 658,539,827.

Estimated Hours per Response: .1795.

Estimated Total Annual Burden Hours: 118,221,440.

Current Burden Inventory: 24,897,947.

Net Increase: 93,323,493.

Dated: May 4, 2015.
Audrey Rowe,
Administrator, Food and Nutrition Service.

[FR Doc. 2015-11752 Filed 5-14-15; 8:45 am]

BILLING CODE 3410-30-P